ENVIRONMENTAL PROTECTION AGENCY

[ER-FRL-6610-1]

Environmental Impact Statements; Notice of Availability

Responsible Agency: Office of Federal Activities, General Information (202) 564-7167 or www.epa.gov/oeca/ofa.

Weekly receipt of Environmental Impact Statements

Filed July 31, 2000 Through August 04, 2000

Pursuant to 40 CFR 1506.9.

EIS No. 000269, Draft Supplement, COE, CA, Prado Dam Water Conversion Plan, Implementation, New Information Concerning New and Modified Flood Protection Features, Remaining Features of the Santa Ana River Project (SARP) and Stabilization of the Bluff Toe at Norco Bluffs, Riverside, Orange and San Bernardino Counties, CA, Due: September 25, 2000, Contact: Ms. Hayle Lovan (213) 452-3863.

EIS No. 000270, Final EIS, AFS, ID, Idaho Panhandle National Forests, Small Sales, Harvesting Dead and Damaged Timber, Coeur d'Alene River Range District, Kootenai and Shoshone Counties, ID, Due: September 11, 2000, Contact: Kerry Arneson (208) 769-3000.

EIS No. 000271, Final EIS, AFS, PA, Allegheny National Forest, To Address the Maintenance and Enhancement of Threatened and Endangered Species, Elk, Forest, McKean and Warren Counties, PA, Due: September 11, 2000, Contact: Gary W. Kell (814) 723-5150.

EIS No. 000272, Final Supplement EIS, NOA, WA, OR, CA, Pacific Coast Salmon Plan (1997) for Amendment 14, Fishery Management Plan, Comprehensive Updating, Exclusive Economic Zone (EEZ), Off the Coasts of WA, OR and CA, Due: September 11, 2000, Contact: William Robinson (206) 526-6142.

EIS No. 000273, Revised Draft EIS, BLM, NV, Sonoma-Gerlach and Paradise-Denio Management Framework Plans Amendment, Implementation of Management of the Black Rock Desert, Humboldt, Pershing and Washoe Counties, NV, Due: November 08, 2000, Contact: Jeff Johnson (775) 623-1500.

EIS No. 000274, Final EIS, AFS, AK, Luck Lake Timber Sales Project, Implementation, Tongass National Forest, Thorne Bay Ranger District, Prince of Wales Island, AK, Due: September 11, 2000, Contact: Chris Minnillo (907) 828-3304.

EIS No. 000275, Final Supplement, NPS, FL, Big Cypress National Preserve, General Management Plan, Implementation, New Information on the Special Alternative for the Off-Road Vehicle Management Plan, Collier, Dade and Monroe Counties, FL, Due: September 11, 2000, Contact: John Donahue (941) 695-2000.

EIS No. 000276, Final EIS, FTA, NY, Mid-Harlem Line Third Track Project, Construct a New 2.5 mile Third Track between Fleetwood and Crestwood Stations, Funding, Westchester County, NY, Due: September 11, 2000, Contact: Anthony Carr (212) 668-2170.

EIS No. 000277, Final EIS, USN, NY, Brooklyn Naval Station Disposal and Reuse, Implementation, King County, NY, Due: September 11, 2000, Contact: Robert K. Ostermueller (610) 595-0759.

Amended Notices

EIS No. 000196, Draft EIS, NPS, MN, Voyageurs National Park General Management, Visitor Use and Facilities Plans, Implementation, Koochiching and St. Louis Counties, MN, Due: September 22, 2000, Contact: Kathleen Przybylski (218) 283-9821. Revision of FR notice published on 06/23/2000: CEQ Comment Date has been Extended from 08/23/2000 to 09/22/2000.

EIS No. 000233, Final EIS, NPS, NJ, Great Egg Harbor National Scenic and Recreation River, Comprehensive Management Plan, Implementation, Atlantic Gloucester, Camden and Cape May Counties, NJ, Due: August 14, 2000, Contact: Mary Vavra (215) 597-9175. Published FR 07-14-00 Correction to Telephone Number.

EIS No. 000268, Draft EIS, COE, MO, Chesterfield Valley Flood Control Study, Improvement Flood Protection, City of Chesterfield, St. Louis County, MO, Due: September 18, 2000, Contact: Dennis Woodruff (314) 331-8485. Published FR-08-04-00—Correction to Name and Telephone Number.

Dated: August 8, 2000.
Joseph C. Montgomery,
Director, NEPA Compliance Division, Office of Federal Activities.

[FR Doc. 00-20436 Filed 8-10-00; 8:45 am]

BILLING CODE 6560-50-P